DEPARTMENT OF TRANSPORTATION

Office of the Secretary

[Docket No. DOT-OST-2009-0115]

Agency Information Collection Activities: Renewed Approval of Information Collection

AGENCY: Office of the Secretary (OST), DOT.

ACTION: Notice and request for comments.

SUMMARY: The Department of Transportation (DOT) invites public comments about our intention to request the Office of Management and Budget (OMB) approval to renew an information collection. The collection involves the Supplemental Discretionary Grants for a National Surface Transportation System, or TIGER Discretionary Grants. The information to be collected will be used to and/or is necessary in order to receive and evaluate applications for grant funds pursuant to Title XII of the American Recovery and Reinvestment Act of 2009 (ARRA). Title XII established a new program for OST to provide Supplemental Discretionary Grants for a National Surface Transportation System. OST is referring to these grants as Grants for Transportation Investment Generating Economic Recovery, or “TIGER Discretionary Grants.” The purposes of the TIGER Discretionary Grants program include promoting economic recovery and supporting projects that have a significant impact on the Nation, a metropolitan area or a region.

DATES: Written comments should be submitted by October 20, 2009.

ADDRESSES: You may submit comments [identified by Docket No. DOT-OST-2009-0115] through one of the following methods:

• Federal eRulemaking Portal: http://www.regulations.gov. Follow the online instructions for submitting comments.

• Fax: 1-202-493-2251.

• Mail or Hand Delivery: Docket Management Facility, U.S. Department of Transportation, 1200 New Jersey Avenue, SE., West Building, Room W12-140, Washington, DC 20590, between 9 a.m. and 5 p.m., Monday through Friday, except on Federal holidays.

FOR FURTHER INFORMATION CONTACT: Jack Bennett, Office of the Assistant Secretary for Transportation Policy, at 202-366-6222 or Jack.Bennett@dot.gov.

SUPPLEMENTARY INFORMATION: OMB Control Number: 2105-0560.

Title: Supplemental Discretionary Grants for a National Surface Transportation System or TIGER Discretionary Grants.

Form Numbers: None.

Type of Review: Renewal of an information collection.

Background: On February 17, 2009, the President of the United States signed the Recovery Act to, among other purposes, (1) preserve and create jobs and promote economic recovery, (2) invest in transportation infrastructure that will provide long-term economic benefits, and (3) assist those most affected by the current economic downturn. The Recovery Act appropriated $1.5 billion of discretionary grant funds to be awarded by the Department for capital investments in surface transportation infrastructure. The funds provided by TIGER Grants will be awarded on a competitive basis to projects that have a significant impact on the Nation, a metropolitan area, or a region.

On May 18, 2009, the Department published an interim notice announcing the availability of funding for TIGER Discretionary Grants, project selection criteria, application requirements and the deadline for submitting applications, which is September 15, 2009. On June 17, 2009, the Department published an additional notice revising some elements of the interim notice. In the event that the June 17, 2009, solicitation does not result in the award and obligation of all available funds, the Department may decide to publish an additional solicitation.

The Department's estimated burden for this information collection is the following:

Expected Number of Respondents: 500.

Frequency: One time collection.

Estimated Average Burden per Response: 100 hour.

Estimated Total Annual Burden: 50,000.

Public Comments Invited: You are asked to comment on any aspect of this information collection, including (a) whether the proposed collection of information is necessary for OST's performance; (b) the accuracy of the estimated burden; (c) ways for OST to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC on August 17, 2009.
Patricia Lawton,
DOT Paperwork Reduction Act Clearance Officer, Office of the Chief Information Officer.

[FR Doc. E9-20080 Filed 8-20-09; 8:45 am]

BILLING CODE 4910-9X-P